DEPARTMENT OF EDUCATION

[Docket Id ED-2016-OESE-0060]

Improving the Academic Achievement of the Disadvantaged (Migrant Education Program)

AGENCY: Office of Elementary and Secondary Education, Department of Education.

ACTION: Notice.

SUMMARY: Under section 1308(b)(2)(B) of the Elementary and Secondary Education Act of 1965, as amended by the No Child Left Behind Act (Pub. L. 107-110) (ESEA, as amended), the Secretary is required to provide notice and seek public comment on the addition of any new proposed Minimum Data Elements (MDEs) for the Migrant Education Program (MEP). The Secretary proposes to add four new MDEs, and solicits public comments accordingly.

DATES: We must receive your comments on or before June 9, 2016.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: If you mail or deliver your comments about the proposed MDEs, address them to Patricia Meyertholen, U.S. Department of Education, 400 Maryland Avenue SW., Room 3E315, Washington, DC 20202-6135. Telephone: (202) 260-1394.

Privacy Note: The U.S. Department of Education's (Department's) policy is to make all comments received from members of the public available for public viewing in their entirety on the Federal eRulemaking Portal at www.regulations.gov. Therefore, commenters should be careful to include in their comments only information that they wish to make publicly available.

FOR FURTHER INFORMATION CONTACT: Patricia Meyertholen, Office of Elementary and Secondary Education, U.S. Department of Education, 400 Maryland Avenue SW., Room 3E315, Washington, DC 20202-6132. Telephone: (202) 260-1394 or by email: patricia.meyertholen@ed.gov.

If you use a telecommunications device for the deaf or a text telephone, call the Federal Relay Service, toll free, at 1-800-877-8339.

SUPPLEMENTARY INFORMATION: Under section 1308(b)(1) of the ESEA, as amended, the Secretary is required to assist States in the electronic transfer of student records. The Secretary assists States with this transfer through the Migrant Student Information Exchange (MSIX) system, which links State migratory student databases to support records transfer. Under section 1308(b)(2)(A) of the ESEA, as amended, the Secretary is further required to determine the health and education information that States must exchange regarding migratory students. MSIX supports the exchange of this information in the form of required MDEs.

When the Secretary proposes to add new MDEs, section 1308(b)(2)(B) of the ESEA, as amended, requires the Secretary to consult with States and publish a notice in the Federal Register seeking public comment on proposed new MDEs. The Department has previously sought public input on the collection of 72 MDEs (78 FR 79222, Dec. 27, 2013), and in this notice now proposes to add four new MDEs:

Residency Verification Date; Graduation/High School Equivalency (HSE) Indicator; Graduation/HSE Date; and Algebra I Flag.

We have already held multiple consultations with States regarding the addition of these four MDEs, and no State official or staff expressed opposition during these various consultations. First, we vetted the MDEs with the MSIX State User Group for Analysis and Recommendations over the course of several years, from 2012 through the present. Second, on October 1, 2012, and November 5, 2014, the Department conducted webinars with the MEP Coordination Workgroup, which is comprised of MEP State Directors from the nine MEP regions throughout the Nation. The MEP Coordination Workgroup supported the addition of the four MDEs and corresponding definitions. Third, we presented these MDEs to all of the MEP State Directors on February 11, 2014, during the Annual Directors' Meeting in Washington, DC. The MEP State Directors did not express any opposition to the addition of these MDEs since States already collect this information, in some form or another, in their migrant-specific databases. Finally, we have worked with 22 States on an MSIX Data Quality Initiative (DQI). Through the DQI process, we discussed the need for and use of these new MDEs in greater detail with MEP State Directors and their staff in these 22 States. Once again, no State official or staff expressed opposition to the addition of these four new MDEs.

Overall, MEP State Directors agreed that the inclusion of the first three MDEs—Residency Verification Date, and Graduation/HSE Indicator and Date—would support MSIX's ability to provide a more consistent accounting of children eligible to receive MEP services. Our conversations with State officials and staff indicate that the States collect these data in their migrant-specific databases to assist in determining eligibility for the MEP. The addition of these three MDEs would allow MSIX, like the State migratory student-specific databases, to more accurately determine who is eligible for the MEP, which in turn would improve the accuracy of information in MSIX reports related to enrollment, placement, and credit accrual that States use on a daily basis. These three new MDEs would also enable MSIX to account for eligible migratory children not enrolled in school and for migratory children who have graduated or obtained their high school equivalency diplomas.

The fourth proposed MSIX MDE would allow schools to better target math courses for newly arrived migratory students by taking course information that States already collect and highlighting it in MSIX. Inclusion of this MDE would promote better education for migratory students.

The Department now seeks additional public comment on the following four proposed MDEs:

• Residency Verification Date: This element would reflect the month, day, and year in which a school or MEP project confirms a migratory student's residency. States or local operating agencies (LOAs) currently collect this information once during the September 1-August 31 performance period to verify student eligibility for MEP services. Including this information in MSIX would help State grantees quickly verify a student's eligibility to receive services under the program.

• Graduation/HSE Indicator and Graduation/HSE Date: These two elements would indicate whether a student has graduated from high school or received an HSE diploma, and the date when that event occurred. Grantees use the MSIX system to determine proper enrollment, placement, and credit accrual for migratory students. Including this information in MSIX would help ensure that LOA and local educational agency staff have timely and accurate information about whether and when a migratory student has graduated from high school or received an HSE diploma, thereby allowing much faster determinations about who may continue to receive MEP educational services because they have not graduated or received an HSE diploma, and who may not receive these services because they already have done so.

• Algebra I Flag: This element would reflect whether the student has received full credit in Algebra I or an equivalent mathematics course. As reported in National Migrant Education Secondary Credit Accrual Workshops and Focus Groups throughout the years, many States use different course names to reference this mathematics course, and completing the material is essential for both enrollment in higher-level mathematics courses and high school graduation. The Algebra I flag would quickly communicate whether a student has obtained credit for this gatekeeper course, which would enable counselors and other school staff to more quickly enroll and place migratory students in the appropriate mathematics course.

Accessible Format: Individuals with disabilities may obtain this notice in an accessible format (e.g., braille, large print, audiotape, or compact disc) on request to the contact person listed under FOR FURTHER INFORMATION CONTACT.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 19, 2016.
Ann Whalen,
Senior Advisor to the Secretary Delegated the Duties of Assistant Secretary for Elementary and Secondary Education.

[FR Doc. 2016-12251 Filed 5-24-16; 8:45 am]

BILLING CODE 4000-01-P